DEPARTMENT OF HEALTH AND HUMAN SERVICES

Administration for Children and Families

Proposed Information Collection Activity; Comment Request

Proposed Project

Title: Project LAUNCH Cross-Site Evaluation.

OMB Number: New Collection.

Description: The Administration for Children and Families (ACF), U.S. Department of Health and Human Services, is planning to collect data as part of a cross-site evaluation of a new initiative called Project LAUNCH (Linking Actions for Unmet Needs in Children's Health). Project LAUNCH is intended to promote the healthy development and wellness of children ages birth to eight years. A total of six Project LAUNCH grantees are funded to improve coordination among child-serving systems, build infrastructure, and improve methods for providing services. Grantees will also implement a range of public health strategies to support young child wellness in a designated locality.

Data for the cross-site evaluation of Project LAUNCH will be collected through: (1) Interviews conducted during annual site-visits to Project LAUNCH grantees, and (2) semi-annual reports that will be submitted electronically on a web-based data-entry system. Information will be collected from all six Project LAUNCH grantees.

During annual site visits, researchers will conduct interviews with Project LAUNCH service providers and collaborators in States/tribes and local communities of focus. Site visitors will ask program administrators questions about all Project LAUNCH activities, including: infrastructure development; collaboration and coordination among partner agencies, organizations, and service providers; and development, implementation, and refinement of service strategies.

As part of the proposed data collection, Project LAUNCH staff will be asked to submit semi-annual electronic reports about the systems development, services that children and families receive, and provider, child and family outcomes. The electronic data report also will collect data about other Project LAUNCH-funded service enhancements, such as trainings, Project LAUNCH systems change activities, and project costs. Information provided in these reports will be tracked on a monthly basis.

Respondents: State/ tribal Child Wellness Coordinator, State/ tribal Wellness Council Members, State ECCS Project Director, Local Child Wellness Coordinator, Local Wellness Council Members, Local Evaluator, and Local Service Providers.

Annual Burden Estimates
Instrument | Annual number of respondents | Number of responses per respondent | Average burden hours per response | Total annual burden hours
State/Tribal Level Site Visit Interview Protocol | 24 | 1 | .875 | 21
Local Level Site Visit Interview Protocol | 36 | 1 | .75 | 27
Electronic Data Reporting | 150 | 2 | 1.5 | 450

Estimated Total Annual Burden Hours: 498.

In compliance with the requirements of Section 3506(c) (2) (A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: March 5, 2009.
Brendan C. Kelly,
Reports Clearance Officer.

[FR Doc. E9-5165 Filed 3-12-09; 8:45 am]

BILLING CODE 4184-01-M